DEPARTMENT OF TRANSPORTATION

Maritime Administration

[Docket Number: MARAD-2001-10295]

Requested Administrative Waiver of the Coastwise Trade Laws

AGENCY: Maritime Administration, Department of Transportation.

ACTION: Invitation for public comments on a requested administrative waiver of the Coastwise Trade Laws for the vessel SAFARI ESCAPE.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before September 6, 2001.

ADDRESSES: Comments should refer to docket number MARAD-2001-10295. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR part 388.

Vessel Proposed for Waiver of the U.S.-build Requirement

(1) Name of vessel and owner for which waiver is requested. Name of vessel: SAFARI ESCAPE. Owner: Safari Escape Charters, LLC.

(2) Size, capacity and tonnage of vessel. According to the applicant: “Registered length: 89.2′; Registered beam: 20.5′; Registered depth: 11.2′; Gross ITC tonnage: 151; Net ITC tonnage: 45.”

(3) Intended use for vessel, including geographic region of intended operation and trade. According to the applicant: “The M/V Safari Escape caters to a specific demographic profile in the overall cruise market. It is providing a luxury yacht option with regularly scheduled departures via stateroom or charter.” “The geographic area of operation will be the Alaska Inside Passage, Southeast Alaska, the pacific Northwest area including Puget Sound and the San Juan Islands of Washington State.”

(4) Date and Place of construction and (if applicable) rebuilding. Date of construction: 1983. Place of construction: Brisbane, Australia

(5) A statement on the impact this waiver will have on other commercial passenger vessel operators. According to the applicant: “The M/V Safari Escape operates within a niche market. In fact, it occupies a position in the luxury yacht “sub-niche” within the small ship arena * * *. There are seven other small ship companies operating in Alaska's Inside Passage, with a combined total of 20 vessels * * *.

A few 12-passenger overnight boats serve Alaska's Inside Passage, but this market could easily sustain more vessels of this type and size. The charter market is dramatically under-served.

Boats that are known to operate in this geographic region in this size category (in addition to The Boat Co.12-passenger “Observer” * * *) are the Alaska Song, Catalyst, Heron and the Midnight Sun. * * * The M/V Safari Escape would have little or no impact on the other small vessels in this market since they are selling to different groups of clientele or are so few in number.

The Pacific Northwest/British Columbia region with pertinent cruises originating and terminating in Seattle receives sporadic cruise ship activity. Spring and fall positioning cruises en route to and from Alaska are the staple of most operators. The only consistent operator of round trip Seattle cruises into Pacific Northwest is Cruise West with one boat carrying about 80 passengers. The luxury overnight yacht, M/V Safari Escape, would not pose an economic threat to this or other small charter boat operators as it would be the only luxury yacht home ported in Seattle, marketing regularly-scheduled stateroom and charter departures.

The overall cruise market is growing each year at a pace of about 9% and * * *. The M/V SARARI ESCAPE provides some minor relief to this market demand. Granting coastwise privileges as this overnight cruise market continues to surge would not economically disadvantage other boats.”

6) A statement on the impact this waiver will have on U.S. shipyards. According to the applicant: “U.S. Shipyards would not be losing business if coastwise privileges were to be assigned to the M/V Safari Escape. On the contrary, this boat's entry into full coastwise operations in the near future would stimulate market awareness for this specific utilization * * *. The momentum created by the M/V Safari Escape's coastwise operations can generate more contracts with U.S. boat builders to meet future demand.

The M/V Safari Escape is presently undergoing a 1.0 million dollar rebuild in Fort Lauderdale, Florida. This work is being done in anticipation of being granted a coastwise wavier. In summary, U.S. shipyards would stand to gain additional economic benefit, rather then losing any opportunity to build a new vessel(s), if coastwise privileges are approved for the M/V Safari Escape.”

Dated: August 1, 2001.
By Order of the Maritime Administrator.
Joel C. Richard,
Secretary, Maritime Administration.

[FR Doc. 01-19667 Filed 8-6-01; 8:45 am]

BILLING CODE 4910-81-P